DEPARTMENT OF COMMERCE

National Oceanic and Atmospheric Administration

50 CFR Part 660

[Docket No. 001226367-0367-01; I.D. 092401G]

Fisheries off West Coast States and in the Western Pacific; Pacific Coast Groundfish Fishery; End of the Primary Season and Resumption of Trip Limits for the Shore-based Fishery for Pacific Whiting

AGENCY: National Marine Fisheries Service (NMFS), National Oceanic and Atmospheric Administration (NOAA), Commerce.

ACTION: Fishing restrictions; request for comments.

SUMMARY: NMFS announces the end of the 2001 primary season for the shore-based fishery for Pacific whiting (whiting) and resumption of per-trip limits at 8 p.m. local time (l.t.) September 26, 2001, because the shore-based allowance is projected to be reached. This action is intended to keep the harvest of whiting at the 2001 allocation levels.

DATES: Effective from 8 p.m. September 26, 2001, until the effective date of the 2002 specification and management measures for the Pacific Coast groundfish fishery that will be published in the Federal Register, unless modified, superseded or rescinded. Comments will be accepted through October 16, 2001.

ADDRESSES: Submit comments to D. Robert Lohn, Administrator, Northwest Region (Regional Administrator), NMFS, 7600 Sand Point Way NE., Seattle, WA 98115-0070; or Rod McInnis, Acting Regional Administrator, Southwest Region, NMFS, 501 West Ocean Blvd., Suite 4200, Long Beach, CA 90802-4213.

FOR FURTHER INFORMATION CONTACT: Becky Renko at 206-526-6110.

SUPPLEMENTARY INFORMATION: This action is authorized by regulations implementing the Pacific Coast Groundfish Fishery Management Plan (FMP), which governs the groundfish fishery off Washington, Oregon, and California. On January 11, 2001 (66 FR 2338), the levels of allowable biological catch (ABC), the optimum yield (OY) and the commercial OY (the OY minus the tribal allocation) for U.S. harvests of whiting were announced in the Federal Register. For 2001 the whiting ABC and OY are 190,400 metric tons (mt) and the commercial OY is 162,900 mt.

Regulations at 50 CFR 660.323 (a)(4) divide the commercial OY into separate allocations for the non-tribal catcher/processor, mothership, and shore-based sectors of the whiting fishery. The catcher/processor sector is composed of vessels that harvest and process whiting. The mothership sector is composed of motherships, and catcher vessels that harvest whiting for delivery to motherships. Motherships are vessels that process, but do not harvest. The shoreside sector is composed of vessels that harvest whiting for delivery to shoreside processors. Each of these sectors receives a portion of the commercial OY. In 2001, the catcher/processors received 34 percent, motherships received 24 percent, and the shore-based sector received 42 percent. When applied to the commercial OY for 2001, this resulted in the following allocations: 55,386 mt for the catcher/processors, 39,096 mt for the motherships, and 68,418 mt for the shore-based sector.

NMFS announced the end of the 2001 primary season for the shore-based Pacific whiting fishery at noon August 21, 2001, because the shore-based allocation was projected to be reached at that time. The regulations at 50 CFR 660.323 (a)(3)(i) describe the primary season for the shore-based sector as the period(s) when the large-scale target fishery is conducted. Before and after the primary seasons, per-trip limits under § 660.323 (b) are in effect for whiting.

On August 31, 2001, NMFS received notification from the tribal fishery participants indicating that 10,000 mts of the tribal allocation was not expected to be harvested before the end of the fishing year. As a result, on September 20, 2001 (66 FR 48370), NMFS announced the reapportionment of the 10,000 mt surplus whiting from the tribal allocation to the catcher/processor, mothership, and shore-based sectors. The catcher/processors received an additional 3,400 mt (34 percent), the motherships received an additional 2,400 mt (24 percent), and the shore-based sector received an additional 4,200 mt (42 percent). To provide the shore-based participants access to the reapportioned whiting, the primary season for the shore-based whiting fishery resumed at noon September 17, 2001.

The best available information on September 24, 2001, indicates that 71,092 mt had been taken through September 23, 2001, and that the 72,618 mt (68,418 mt + 4,200) shore-based allowance would be reached by 8 p.m. l.t. September 26, 2001. This Federal Register document announces the date that the primary season for the shore-based sector ends, and that per-trip limits are imposed. The per-trip limit is intended to accommodate small bait and fresh fish markets, and bycatch in other fisheries. To minimize incidental catch of chinook salmon by vessels fishing shoreward of the 100-fm (183-m) contour in the Eureka area, at any time during a fishing trip, a limit of 10,000 lb (4,536 kg) of whiting is in effect year-round (unless landings of whiting are prohibited).

NMFS Action

For the reasons stated above, and in accordance with the regulations at 50 CFR 660.323 (a)(4)(iii)(C), NMFS herein announces:

Effective 8 p.m. l.t. September 26, 2001, no more than 20,000 lb (9,072 kg) of whiting may be taken and retained, possessed or landed by a catcher vessel participating in the shore-based sector of the whiting fishery. If a vessel fishes shoreward of the 100 fm (183 m) contour in the Eureka area (43°- 40°30′ N. lat.) at any time during a fishing trip, the 10,000-lb (4,536 kg) trip limit applies, as announced in the annual management measures at paragraph IV, B (3)(c)(ii).

Classification

This action is authorized by the regulations implementing the FMP. The determination to take this action is based on the most recent data available. The aggregate data upon which the determination is based are available for public inspection at the Office of the Regional Administrator (see ADDRESSES) during business hours. This action is taken under the authority of 50 CFR 660.323 (a)(4)(iii)(C) and is exempt from review under Executive Order 12866.

Authority: 16 U.S.C. 1801 et seq.

Dated: September 26, 2001.
Bruce C. Morehead,
Acting Director, Office of Sustainable Fisheries, National Marine Fisheries Service.

[FR Doc. 01-24498 Filed 9-26-01; 3:57 pm]

BILLING CODE 3510-22-S